DEPARTMENT OF COMMERCE

International Trade Administration

(A-570-848)

Freshwater Crawfish Tail Meat From the People's Republic of China: Notice of Postponement of Time Limits for New Shipper Antidumping Duty Reviews in Conjunction With Administrative Review

AGENCY: Import Administration, International Trade Administration, Department of Commerce.

SUMMARY: Pursuant to 19 CFR 351.214(j)(3), four requesting parties have agreed to waive the time limits for their new shipper reviews of the antidumping duty order on freshwater crawfish tail meat from the People's Republic of China (“PRC”). Therefore, the Department of Commerce (“the Department”) will conduct these new shipper reviews concurrently with the administrative review covering the same order and period.

EFFECTIVE DATE: March 23, 2007.

FOR FURTHER INFORMATION CONTACT: Jeff Pedersen or Howard Smith, AD/CVD Operations, Office 4, Import Administration, International Trade Administration, U.S. Department of Commerce, 14th Street and Constitution Avenue, NW, Washington, DC 20230; telephone: (202) 482-2769 or (202) 482-5193, respectively.

SUPPLEMENTARY INFORMATION:

Background

On October 30, 2006, in accordance with 19 CFR 351.214(d), the Department initiated new shipper reviews of the antidumping duty order on freshwater crawfish tail meat from the PRC for Anhui Tongxin Aquatic Product & Food Co., Ltd. (“Anhui Tongxin”), Huoshan New Three-Gold Food Trade Co. Ltd. (“Huoshan NTGF”), Jingdezhen Garay Foods Co., Ltd. (“Jingdezhen Garay”), and Shanghai Now Again International Trading Co., Ltd. (“Shanghai Now Again”). These new shipper reviews cover the period September 1, 2005 through August 31, 2006. See Freshwater Crawfish Tail Meat from the People's Republic of China: Initiation of Antidumping Duty New Shipper Reviews, 71 FR 63284 (Oct. 30, 2006).

On October 31, 2006, the Department initiated the administrative review of the antidumping duty order on freshwater crawfish tail meat from the PRC covering the period September 1, 2005 through August 31, 2006. See Initiation of Antidumping and Countervailing Duty Administrative Reviews, 71 FR 63752 (Oct. 31, 2006).

Postponement of New Shipper Reviews

In accordance with 19 CFR 351.214(j)(3), Anhui Tongxin, Huoshan NTGF, Jingdezhen Garay, and Shanghai Now Again agreed to waive the time limits, as set forth in 19 CFR 351.214(i), to allow the new shipper reviews to be conducted concurrently with the administrative review covering the same period. See letters waiving the time limits from counsel for Anhui Tongxin, counsel for Huoshan NTGF, and counsel for Jingdezhen Garay and Shanghai Now Again (received January 3, 2007, December 7, 2006, and November 30, 2006, respectively). Therefore, in accordance with 19 CFR 351.214(j)(3), the Department will conduct these new shipper reviews concurrently with the September 1, 2005 through August 31, 2006, administrative review of freshwater crawfish tail meat from the PRC. Accordingly, pursuant to section 751(a)(3)(A) of the Tariff Act of 1930, as amended (the “Act”), the Department will issue the preliminary results of the antidumping duty new shipper reviews, as well as the administrative review, within 245 days of the last day of the anniversary month of the order on freshwater crawfish tail meat from the PRC.

This notice is published in accordance with section 751(a)(2)(B) of the Act and 19 CFR 351.214(j)(3).

Dated: March 19, 2007.
Stephen J. Claeys,
Deputy Assistant Secretary for Import Administration.

[FR Doc. E7-5393 Filed 3-22-07; 8:45 am]

BILLING CODE 3510-DS-S